Title 3—

The President

Proclamation 9434 of April 29, 2016

Asian American and Pacific Islander Heritage Month, 2016

By the President of the United States of America

A Proclamation

Asian Americans and Pacific Islanders (AAPIs) are the fastest growing racial group in our country, growing over 4 times as rapidly as the population of the United States. As one of the most culturally and linguistically diverse groups in America, the AAPI community reminds us that though we all have distinct backgrounds and origins, we are bound in common purpose by our shared hopes and dreams for ourselves and our children. Our Nation's story would be incomplete without the voices of countless Asian Americans, Native Hawaiians, and Pacific Islanders who have called the land we all love home. This month, we honor the irreplaceable roles they have played in our past, and we recommit to ensuring opportunities exist for generations of AAPIs to come.

The AAPI community's long and deeply-rooted legacy in the United States reminds us of both proud and painful chapters of our history. Confronted with grueling and perilous working conditions, thousands of Chinese laborers on the transcontinental railroad pushed the wheels of progress forward in the West. Japanese American troops fought for freedom from tyranny abroad in World War II while their families here at home were interned simply on the basis of their origin. And many South Asian Americans in particular face discrimination, harassment, and senseless violence often in the communities in which they live and work.

Today, AAPIs lend their rich heritage to enhancing our communities and our culture. As artists and activists, educators and elected officials, service men and women and business owners, AAPIs help drive our country forward. Yet despite hard-won achievements, AAPIs continue to face obstacles to realizing their full potential. One in three AAPIs does not speak English fluently, and certain subgroups experience low levels of educational attainment and high levels of unemployment. AAPIs also often experience heightened health risks, and millions of AAPI men, women, and children in the United States live in poverty.

My Administration is committed to supporting and investing in AAPI communities. Thanks to the Affordable Care Act, 20 million uninsured adults have gained health insurance coverage, including 2 million AAPIs. Among Asian Americans under the age of 65, the uninsured rate has declined by 55 percent since 2013. Last year, we brought together thousands of AAPI artists; advocates; and business, community, and Federal leaders from across America for the first-ever White House Summit on AAPIs to discuss the key issues facing their communities. The Summit was hosted by the White House Initiative on AAPIs, which I reestablished during my first year in office and is housed within the Department of Education. We are working with Federal agencies to build stronger and more robust regional networks across our country that improve access to Federal resources and expand opportunities. We have worked to protect civil rights, foster educational equity, and create economic opportunity across our country. Because a lack of detailed data perpetuates the false notion of AAPIs as a model minority, we are working across Government to improve data collection to counter existing stereotypes and to shed light on the realities faced and resources needed by the AAPI community. Through the White House Task Force on New Americans, Federal agencies are working with cities and counties around America to build welcoming communities that allow immigrants and refugees to thrive. And we will continue working to allow more high-skilled immigrants to stay in our country—too many talented AAPIs are held back from fully realizing our country's promise, and too many have suffered the consequences of our Nation's broken immigration system.

Peoples of diverse backgrounds and circumstances have long come to our country with the faith that they could build a better life in America, and spanning generations, the story of AAPIs in the United States embodies this promise. During Asian American and Pacific Islander Heritage Month, let us celebrate the many contributions our AAPI brothers and sisters have made to the American mosaic, and let us renew our commitment to creating more opportunities for AAPI youth as they grow up and embrace the hard work of active citizenship, adding their unique voices and experiences to our Nation's narrative.

NOW, THEREFORE, I, BARACK OBAMA, President of the United States of America, by virtue of the authority vested in me by the Constitution and the laws of the United States, do hereby proclaim May 2016 as Asian American and Pacific Islander Heritage Month. I call upon all Americans to visit www.WhiteHouse.gov/AAPI to learn more about our efforts on behalf of Asian Americans, Native Hawaiians, and Pacific Islanders, and to observe this month with appropriate programs and activities.

IN WITNESS WHEREOF, I have hereunto set my hand this twenty-ninth day of April, in the year of our Lord two thousand sixteen, and of the Independence of the United States of America the two hundred and fortieth.

[FR Doc. 2016-10643

Filed 5-3-16; 11:15 am]

Billing code 3295-F6-P